DEPARTMENT OF AGRICULTURE

Forest Service

Crupina Vegetation Management, Okanogan and Wenatchee National Forests, Chelan County, WA

AGENCY: Forest Service, USDA.

ACTION: Notice of intent to prepare an environmental impact statement.

SUMMARY: The USDA, Forest Service will prepare an environmental impact statement (EIS) to disclose the environmental effects of treating populations of Crupina vulgaris, an aggressive, non-native plant species invading the north shore of Lake Chelan, Washington, using an integrated weed management approach. Approximately 500 acres of Crupina would be treated in the Lake Chelan-Sawtooth Wilderness and areas adjacent to the wilderness, and along the North Shore of Lake Chelan, including private land where landowners are willing. An additional 4,500 acres could potentially be treated in the Rex Creek Fire area. Treatment would include manual, mechanical, cultural and chemical methods.

ADDRESSES: Send written comments to Crupina Project, Chelan Ranger District, 428 West Woodin Avenue, Chelan, Washington 98816.

FOR FURTHER INFORMATION CONTACT: Jim Archambeault, Crupina Project Team Leader, Okanogan-Wenatchee National Forest, Forest Service, (509) 997-9738 or Mallory Lenz, Wildlife Biologist, Chelan Ranger District (509) 682-2576.

SUPPLEMENTARY INFORMATION:

Purpose and Need for Action

The purpose of this proposal is to contain and, if possible, ultimately eradicate Crupina vulgaris (Crupina) from the current area of infestation, thus preventing Crupina from further compromising the wilderness resource, other resource values, and ecosystem integrity and also preventing expansion of the current area of infestation. The need for this action is the result of the 55,000 acre Rex Creek fire of 2001. The fire burned over the entire infested area and created favorable conditions for the continued spread of Crupina by reducing vegetation. Modeling of potential favorable habitat shows that there is approximately 4500 acres available for further weed invasion.

Crupina vulgaris (Crupina) is an aggressive, non-native Class A noxious weed (eradicate were found) that has invaded the north shore of Lake Chelan, including portions of the Lake Chelan Sawtooth Wilderness, developed National Forest recreation sites, and private lands. In addition, the potential exists for Crupina to spread outside of the current infested areas onto the Lake Chelan National Recreation Area, other parts of the National Forest, and further infest additional private agriculture areas. The Rex Creek Fire of 2001 burned the entire infested area, reducing the vegetative cover and generally improving and expanding site conditions or an annual weed species such as Crupina. Since Crupina prefers unshaded sites, reduction of canopy cover, due to fires in 2001, has created thousands of acres of additional potentially suitable habitat for Crupina.

This weed threatens the wilderness resource and other resource values because it displaces native plants, and changes plant community structure and function. Changes in plant community structure may alter fuel characteristics and ecosystems processes including: plant succession, nutrient cycling, hydrologic function and productivity.

Over the last 15 years, 60-100 acres of the approximately 500 infested acres have been treated by repeated hand pulling along the Lakeshore Trail corridor to reduce plant populations and seed production. These control efforts have successfully prevented Crupina from spreading outside the infested area. However, attempts to eradicate the entire infestation have been unsuccessful due to lack of consistent multiyear funding, ineffectiveness of hand pulling as the primary treatment method, and incomplete treatments where herbicide spraying was done on private land. The Wenatchee National Forest has previously entered into a memorandum of understanding with the State of Washington wherein WNF has agreed to comply with state law, which includes eradication of all Class A noxious weeds.

Most treatment would occur within the Congressionally-designated Lake Chelan-Sawtooth Wilderness. Regulations identify the objective of Wilderness administration to preserve and protect wilderness character while allowing for public use, and state that wilderness resources shall be managed to promote, perpetuate and, where necessary, restore the wilderness character (36 CFR 293.2).

According to the Wenatchee National Forest Land and Resource Management Plan (Forest Plan), existing populations of noxious weeds should be contained, controlled or eradicated as budget allows, with priority given to Class A weeds. The first priority for treatment is to be given to projects adjacent to agricultural lands, with second priority given to areas within or threatening Wilderness, both of which are present in the treatment area (Forestwide Standards and Guidelines, pages IV-89 and IV-92). The Forest Plan's goal for Wilderness is in part to preserve and protect the natural character for future generations. The Forest Plan also gives additional Wilderness direction to rehabilitate degraded sites caused by management activities or visitor use (Forest Plan, pages IV-227 and IV-230).

Some additional treatment is proposed in the Dispersed Recreation, Unroaded, Non-motorized (RE-3) Management Area, adjacent to the Lake Chelan-Sawtooth Wilderness along the North Shore of Lake Chelan at Prince Creek and Moore Point. The goal for RE-3 is to provide dispersed recreation opportunities in a non-motorized setting where landscape changes are not generally evident with a natural or natural-appearing environment. All treatment areas along the lakeshore and other riparian areas are subject to riparian reserve standards and guidelines. Herbicides will be applied in a manner consistent with Aquatic Conservation Strategy objectives.

In order to accomplish the goals set forth in the Wenatchee Forest Plan, the desired condition is to contain and ultimately eradicate Crupina from the current area of infestation, and create conditions where native plants will re-colonize the treated areas to support wilderness and recreation management objectives. Treatments would be designed to prevent Crupina from further compromising the wilderness resource, other resource values, and ecosystem integrity and also prevent expansion of the current area of infestation.

Proposed Action

The proposal is to develop and implement a multi-year integrated weed management approach to treat approximately 500 acres of the Class A noxious weed Crupina vulgaris (Crupina) located within and adjacent to the Lake Chelan-Sawtooth Wilderness on the north shore of Lake Chelan in Washington State. Up to 4500 acres of new infestation could also be treated within the Rex Creek Fire Area. Within the proposed treatment area, Crupina occurs as scattered patches in predominantly non-forested sites between Prince Creek and Hunt's Bluff. The Crupina patches occur at elevations ranging between the shore of Lake Chelan (11000 feet) up to 3000 feet, and occasionally up to 4000 feet. Patch size varies between 55 acres and approximately 400 square feet. Surrounding the areas of historic infestation are approximately 4500 acres of potentially suitable habitat. This habitat, all of which lies within the Rex Creek fire area, has been modeled using suitable habitat characteristics: aspect (south, southwest, and west), soils (generally rocky outcrops and alluvial fans), slope (0-60%), and elevation (1100′ to 4000′).

The treatment methods for each infested site would include some combination of the following methods:

• Chemical: Spot application (backpack spraying) of herbicides: picloram in upland areas, glyphosate near waterways

• Manual: Hand pulling, grubbing

• Mechanical: Heat treatment (propane heated disk), helicopter staging of personnel and materials

• Cultural: Reseeding treated areas, using native seed, where the other non-native vegetation might re-occupy the treated areas.

The appropriate treatment method for each site will be selected based on the following criteria:

• Proximity of Threatened, Endangered and Sensitive plants (hand pull only) that would be impacted by chemical spray or drift

• Riparian areas (hand pulling and/or glyphosate)

• Sensitive or erodible soils (herbicide treatment to minimize foot traffic)

• Composition of existing native plant community (herbicide/reseed where native plant population is already compromised)

• Accessibility for foot traffic (prioritize treatment in adjacent areas). Treatment priority will be placed on sites with the greatest risk of spread.

Possible Alternatives

Additional alternative to be analyzed is the use of all treatment methods listed in the proposed action except herbicides or mechanical. All action alternatives will consider treatments on adjacent private lands, which would require cooperation from willing landowners.

Scoping Process

Scoping is an ongoing process throughout the planning process. A scoping letter was mailed in early June to individuals and organizations on the Chelan Ranger District's mailing list and adjacent landowners. The Chelan District Ranger has been on the local radio and the local paper has covered the project. The draft EIS will be circulated to those who indicated an interest in this specific project.

Preliminary Issues

Previous environmental analysis and decisions made in previous Environmental Assessments have provided a preliminary list of issues, and these have been reviewed and supplemented by Forest staff. These issues include:

• The potential continued spread of this weed, particularly in light of conditions created by the Red Creek Fire of 2001.

• Concern about the use of, and application methods of, herbicides and the effects on surrounding vegetation and other resources.

• The project area is located mostly in the Lake Chelan-Sawtooth Wilderness and the use of mechanical methods of control and the presence of control personnel could affect wilderness resources.

• Concern that, based on the results of past control measures, the proposed control measures might not be effective.

• Concern that mechanical and manual control efforts could cause soil disturbance.

• Concern about the effects of treatments on recreation use in the project area and adjacent areas.

Early Notice of Importance of Public Participation in Subsequent Environmental Review: A draft EIS will be released for public comment November 2002. The comment period on the draft EIS will be 45 days from the date the Environmental Protection Agency publishes the notice of availability in the Federal Register. The final EIS is to be released in January 2003.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. (40 CFR 1501.7 and 1508.22).

The Forest Service is the lead agency. The Regional Forester for the Pacific Northwest Region is the Responsible Official. The Responsible Official will decide which, if any, of the proposed projects will be implemented. The Crupina Vegetation Management decision and the reasons for the decision will be documented in the Record of Decision. That decision will be subject to Forest Service Appeal Regulations (36 CFR part 215).

Dated: October 9, 2002.
Richard W. Sowa,
Acting Deputy Regional Forester.

[FR Doc. 02-26381 Filed 10-16-02; 8:45 am]

BILLING CODE 3410-11-M